DEPARTMENT OF LABOR

Employment and Training Administration

[TA-W-52,425]

Home Products International, Inc., Eagan, MN; Notice of Termination of Investigation

Pursuant to section 221 of the Trade Act of 1974, as amended, an investigation was initiated on July 30, 2003, in response to a worker petition filed by the International Association of Machinists and Aerospace Workers, District Lodge Number 77, Egan, Minnesota, on behalf of workers at Home Products International, Eagan, Minnesota.

The petitioner union representative has requested the petition be withdrawn. Consequently, further investigation would serve no purpose and the investigation is terminated.

Signed at Washington, DC, this 15th day of August, 2003.
Linda G. Poole,
Certifying Officer, Division of Trade Adjustment Assistance.

[FR Doc. 03-22285 Filed 8-29-03; 8:45 am]

BILLING CODE 4510-30-P